DEPARTMENT OF ENERGY

Federal Energy Regulatory Commission

[Docket Nos. EC05-74-000, et al.]

The Governor & Company of the Bank of Scotland, Lehman Commercial Paper, Inc. and Granite Ridge Energy, LLC, et al.; Electric Rate and Corporate Filings

May 6, 2005.

The following filings have been made with the Commission. The filings are listed in ascending order within each docket classification.

1. The Governor & Company of the Bank of Scotland, Lehman Commercial Paper Inc. and Granite Ridge Energy, LLC

[Docket Nos. EC05-74-000]

Take notice that on April 21, 2005 The Governor & Company of the Bank of Scotland (bank of Scotland), Lehman Commercial Paper Inc. (Lehman) and Granite Ridge Energy, LLC (Granite Ridge) (collectively, Applicants) filed with the Commission an application pursuant to section 203 of the Federal Power Act for authorization for the sale of transfer of all of Bank of Scotland's indirect equity interests in Granite Ridge to Lehman.

Comment Date: 5 p.m. Eastern Time on May 16, 2005.

2. Cottonwood Energy Company LP, Magnolia Energy LP, Redbud Energy LP, Cottonwood Energy Company LP, Magnolia Energy LP and Redbud Energy LP

[Docket No. EC05-77-000, ER01-642-002, ER01-1335-004, ER01-1335-004]

Take notice that on May 2, 2005, Cottonwood Energy Company LP, Magnolia Energy LP, and Redbud Energy LP (Applicants) submitted an application pursuant to section 203 of the Federal Power Act for authorization of an internal upstream corporate reorganization. The Applicants also provided notice of change in status with respect to the change in the indirect upstream ownership of each that will be affected by the reorganization.

Comment Date: 5 p.m. Eastern Time on May 24, 2005.

3. Dominion Energy Kewaunee, Inc.

[Docket No. EG05-61-000]

Take notice that on April 22, 2005, Dominion Energy Kewaunee, Inc., c/o Dominion Resources, Inc., 120 Tredegar Street, Richmond, Virginia 23219 (Applicant), filed with the Federal Energy Regulatory Commission (Commission) an application for determination of exempt wholesale generator status pursuant to part 365 of the Commission's regulations. Applicant states that it is a Wisconsin corporation and is an indirect, wholly-owned subsidiary of Dominion Resources, Inc., and that it proposes to acquire, own and operate an approximately 543 megawatt pressurized water single reactor nuclear power plant located in Town of Carlton in Kewaunee County, Wisconsin. Applicant further states that all of the electric energy produced by the facility will be sold at wholesale.

Comment Date: 5 p.m. Eastern Time on May 13, 2005.

4. Duke Energy Hanging Rock, LLC

[ Docket No. ER03-17-004]

Take notice that, on April 29, 2005, Duke Energy Hanging Rock, LLC (Duke Hanging Rock) submitted for filing revisions to its market-based rate tariff, designated as FERC Electric Tariff, Original Volume No. 1, to include the change in status reporting requirements adopted in Reporting Requirement for Changes in Status For Public Utilities With Market-Based Rate Authority, Order No. 652, 110 FERC ¶ 61,097 (2005). Duke Hanging Rock requests an effective date of March 20, 2005.

Duke Hanging Rock states that copies of the filing were served upon the parties on the official service list in the above-captioned proceeding.

Comment Date: 5 p.m. Eastern Time on May 20, 2005.

5. POSDEF Power Company, L.P.

[Docket No. ER04-947-002]

Take notice that on April 29, 2005, POSDEF Power Company, L.P. (POSDEF Power), filed with the Commission a change in status of its ownership. In addition, POSDEF Power states that it is complying with Commission Order No. 652, Reporting Requirement for Changes in Status for Public Utilities with Market-Based Rate Authority.

POSDEF Power states that this filing has been served on the Florida Public Service Commission and all parties listed on the Commission's official service list.

Comment Date: 5 p.m. Eastern Time on May 20, 2005.

6. PJM Interconnection, L.L.C.

[Docket No. ER05-10-000]

Take notice that on April 25, 2005, PJM Interconnection, L.L.C. (PJM) filed an updated analysis of the regulation service market in the portion of the PJM region covered by the geographic territories of Allegheny Power, American Electric Power Company (AEP), Commonwealth Edison Company (including Commonwealth Edison Company of Indiana) (ComEd), The Dayton Power and Light Company (Dayton), and Dusquesne Light Company (Dusquesne).

Comment Date: 5 p.m. Eastern Time on June 6, 2005.

7. Pacific Gas and Electric Company

[ Docket No. ER05-390-001]

Take notice that on April 27, 2005, Pacific Gas and Electric Company (PG&E) and Turlock Irrigation District (Turlock) (together, Sponsoring Parties) submitted an Offer of Settlement. The Sponsoring Parties state that the Settlement results in a Revised Interconnection Agreement between PG&E and Turlock which is part of the April 27, 2005 filing and is intended to become a filed rate schedule under this Settlement.

The Sponsoring Parties state that a copy of the Settlement has been served on all parties on the official service list in this proceeding and all persons requited to be served pursuant to Rule 602(d).

Comment Date: 5 p.m. Eastern Time on May 18, 2005.

8. Allegheny Power

[Docket No. ER05-512-002]

Take notice that on April 29, 2005, Monongahela Power Company, The Potomac Edison Company, and West Penn Power Company, all doing business as Allegheny Power, filed an amendment to its previous filing of January 28, 2005 in Docket No. ER05-512-000 relating to eight First Revised Interconnection and Operating Agreements entered in to with Allegheny Power's affiliate, Allegheny Energy Supply Company, LLC (AE Supply). Allegheny Power states that the purpose of the amendment is to provide support for the capital structure utilized in the cost calculations supporting the revised charges pursuant to request by reviewing Commission staff. Allegheny Power requests an effective date of April 1, 2005.

Comment Date: 5 p.m. Eastern Time on May 20, 2005.

9. Grant Energy, Inc.

[ Docket No. ER05-557-002]

Take notice that on April 29, 2005, Grant Energy, Inc. (Grant), tendered for filing as part of its market-based rate tariff, Original Volume No. 1, First Revised Sheet No. 3, in compliance with the Commission's Order issued March 30, 2005 Order in Docket Nos. ER05-557-000 and 001.

Comment Date: 5 p.m. Eastern Time on May 20, 2005.

10. Ramco Generating One, Inc.

[Docket No. ER05-564-001]

Take notice that on April 29, 2005, Ramco Generating One, Inc. submitted a compliance filing pursuant to the Commission's order issued March 31, 2005 in Docket No. ER05-564-000 to corporate the change in status reporting requirements of Order No. 652.

Comment Date: 5 p.m. Eastern Time on May 20, 2005.

11. Mill Run Windpower, LLC

[ Docket No. ER05-660-001]

Take notice that, on April 22, 2005 and April 29, 2005, Mill Run Windpower, LLC (Mill Run) filed supplements to its April 15, 2005 filing in the above-referenced docket. Mill Run states that the purpose of these filings is to correct an Order No. 614 designation.

Mill Run states that copies of the filing were served on parties on the official service list in the above-captioned proceeding and on the Florida Public Service Commission.

Comment Date: 5 p.m. Eastern Time on May 20, 2005.

12. Wisconsin Electric Power Company

[ Docket No. ER05-760-002]

Take notice that on April 29, 2005, Wisconsin Electric Power Company (Wisconsin Electric) tendered for filing an Errata to Amendment No. 2 to the Joint Operating Agreement between Wisconsin Electric and Edison Sault, which was filed by Wisconsin Electric on March 31, 2005. Wisconsin Electric states that the errata is intended to correct a misstatement of a formula on First Revised Sheet No. 24. Wisconsin Electric requests an effective date of April 1, 2005.

Comment Date: 5 p.m. Eastern Time on May 20, 2005.

13. Southern Company Services, Inc.

[Docket No. ER05-914-000]

Take notice that on April 29, 2005, Southern Company Services, Inc. (Southern Companies) submitted for filing to tune-up the charges based on projected data collected for transmission service under their Open Access Transmission Tariff (Tariff) during calendar year 2004.

Comment Date: 5 p.m. Eastern Time on May 20, 2005.

14. Virginia Electric and Power Company and The Potomac Edison Company

[Docket Nos. ER05-915-000 and ER05-916-000]

Take notice that on April 29, 2005, Virginia Electric and Power Company and The Potomac Edison Company (PE), (collectively, Applicants) jointly tendered for filing a revised and integrated Borderline Interchange Agreement (Interchange Agreement) designated as Virginia Electric Power Company's First Revised Rate Schedule FERC No. 122 and a substantively identical Interchange Agreement designated as PE's First Revised Rate Schedule FERC No. 55. Applicants state that the rate schedules have been integrated and modified to reflect the re-establishment of a delivery point. Applicants request an effective date of April 29, 2005.

Applicants state that copies of the filing were served upon Dominion Virginia Power, PE and the Virginia State Corporation Commission.

Comment Date: 5 p.m. Eastern Time on May 20, 2005.

15. PJM Interconnection, L.L.C.

[Docket No. ER05-917-000]

Take notice that on April 29, 2005, PJM Interconnection, L.L.C. (PJM) submitted for filing amendments to the PJM Open Access Transmission Tariff (Tariff) to provide for compliance with the Commission's March 30, 2005 Order, 110 FERC ¶ 61,388 (2005), directing transmission-owning public utilities in the Eastern Interconnection using North American Electric Reliability Council's (NERC) revised Transmission Loading Relief (TLR) procedures to file a notice informing the Commission that they would use the NERC TLR procedures, and that their tariffs should be considered to be so modified. PJM requests an effective date of April 1, 2005.

PJM states that copies of this filing have been served on all PJM members and the utility regulatory commissions in the PJM region.

Comment Date: 5 p.m. Eastern Time on May 20, 2005

16. Northeast Utilities Service Company, The Connecticut Light and Power Company, Western Massachusetts Electric Company, Holyoke Water Power Company, and Holyoke Power and Electric Company

[Docket No. ER05-918-000]

Take notice that on April 29, 2005, Northeast Utilities Service Company (NUSCO, on behalf of The Connecticut Light and Power Company, Western Massachusetts Electric Company, Holyoke Water Power Company, and Holyoke Power and Electric Company (collectively, the NU Companies), tendered for filing an unexecuted Sixth Amendment to a comprehensive long-term transmission service agreement between the NU Companies and the Connecticut Municipal Electric Energy Cooperative (CMEEC). NUSCO requests an effective date of May 1, 2005.

NUSCO states that copies of this filing have been served on CMEEC, the Connecticut Department of Public Utility Control, and the Massachusetts Department of Telecommunications and Energy.

Comment Date: 5 p.m. Eastern Time on May 20, 2005.

17. Mirant Americas Energy Marketing, LP

[ Docket No. ER05-919-000]

Take notice that on April 29, 2005, Mirant Americas Energy Marketing, LP (Mirant), with the support of PJM Interconnection, L.L.C. (PJM), filed a Letter Agreement Regarding Offer Price Caps For Mirant Units (proposed FERC Rate Schedule No. 1), which was negotiated and executed between Mirant and PJM pursuant to Section 6.4.2 (a)(iv) of the PJM Operating Agreement. Mirant requests a waiver of section 35.13 (c), (d), (e), and (h), of the Commission's regulations. Mirant also requests that the Commission grant expedited consideration to its filing, and issue an order accepting the Letter Agreement on or before June 15, 2005. PJM states that it supports both of these requests.

Mirant has served copies of this filing on the Maryland Public Service Commission and the DC Public Service Commission.

Comment Date: 5 p.m. Eastern Time on May 20, 2005.

18. New England Power Pool

[Docket No. ER05-920-000]

Take notice that on April 29, 2005, the New England Power Pool (NEPOOL) Participants Committee filed for acceptance materials to permit NEPOOL (1) to expand its membership to include EnerNOC, Inc. (EnerNOC) and Amerada Hess Corporation (Hess) (collectively, the Applicants); and (2) to terminate the memberships of Lew A. Cummings, Inc. (Cummings) and USGen New England, Inc. (USGen). NEPOOL and the Participants Committee requests the following effective dates: April 1, 2005 for the termination of the memberships of Cummings and USGen, May 1, 2005 for the membership of EnerNOC, and July 1 for the membership of Hess.

NEPOOL and the Participants Committee state that copies of these materials were sent to the New England state governors and regulatory commissions and the Participants in NEPOOL.

Comment Date: 5 p.m. Eastern Time on May 20, 2005.

19. Entergy Services, Inc.

[ Docket No. ER05-921-000]

Take notice that on April 29, 2005, Entergy Services, Inc., on behalf of the Entergy Operating Companies tendered for filing, a generic amendment to is Open Access Transmission Tariff reflecting the North American Electric Reliability Council's Transmission Loading Relief procedures accepted by the Commission in North American Reliability Council, 110 FERC ¶ 61,388 (2005).

Comment Date: 5 p.m. Eastern Time on May 20, 2005.

20. Unitil Power Corp.

[Docket No. ER05-922-000]

Take notice that on April 28, 2005, Unitil Power Corp. tendered for filing pursuant to Attachment 1 to Rate Schedule FERC No. 1, the Amended Unitil System Agreement, Appendix I, section D, the following material: Statement of all billing transactions under the Amended Unitil System Agreement for the period January 1, 2004 through December 31, 2004 along with the actual costs incurred by Unitil Power Corp. by FERC account, including the calculation of Contract Release Payments and Administrative Service Charges.

Unitil Power Corp. states that a copy of the filing was served upon the New Hampshire Public Utilities Commission.

Comment Date: 5 p.m. Eastern Time on May 20, 2005.

21. Wisconsin Electric Power Company

[Docket No. ER05-923-000]

Take notice that on April 29, 2005, Wisconsin Electric Power Company (Wisconsin Electric) tendered for filing a proposed amendment to an agreement with Alliant Energy Corporation (Alliant) pursuant to which Wisconsin Electric provides Alliant Wholesale Distribution Export Service. Wisconsin Electric states that the purpose of the amendment is to extend the term of the agreement, to increase the rate Wisconsin Electric charges for the service and to provide for invoicing of calculated losses which is provided under Wisconsin Electric's Rate Schedule FERC No. 102. Wisconsin Electric requests an effective date of May 1, 2005.

Wisconsin Electric states that copies of this filing have been served upon Alliant, the Michigan Public Service Commission and the Public Service Commission of Wisconsin.

Comment Date: 5 p.m. Eastern Time on May 20, 2005.

22. Black Hills Power, Inc.

[ Docket No. ER05-924-000]

Take notice that on April 29, 2005, Black Hills Power, Inc. (Black Hills Power), filed a notice of cancellation of its open access transmission tariff on file with the Commission as Black Hills Power & Light Company FERC Electric Tariff Original Volume No. 2 in Docket No. OA96-75-000, effective October 15, 2003 (Black Hills Power OATT). Black Hills Power states that the Black Hills Power OATT has been superseded by the Joint Open Access Transmission Tariff of Black Hills Power, as Joint Tariff Administrator, Basin Electric Power Cooperative, and Powder River Energy Corporation on file with FERC in Docket No. ER03-1354. Black Hills Power requests an effective date of October 15, 2003.

Comment Date: 5 p.m. Eastern Time on May 20, 2005.

23. Apex Power, LLC

[Docket No. QF05-99-000]

Take notice that on April 29, 2005, Apex Power, LLC, (Apex Power) tendered a filing with Commission an application for certification of a facility as a qualifying cogeneration facility pursuant to section 292.207(b) of the Commission's regulations. Apex Power.

Comment Date: 5 p.m. Eastern Time on May 20, 2005.

Standard Paragraph

Any person desiring to intervene or to protest this filing must file in accordance with Rules 211 and 214 of the Commission's Rules of Practice and Procedure (18 CFR 385.211 and 385.214). Protests will be considered by the Commission in determining the appropriate action to be taken, but will not serve to make protestants parties to the proceeding. Any person wishing to become a party must file a notice of intervention or motion to intervene, as appropriate. Such notices, motions, or protests must be filed on or before the comment date. Anyone filing a motion to intervene or protest must serve a copy of that document on the Applicant. On or before the comment date, it is not necessary to serve motions to intervene or protests on persons other than the Applicant.

The Commission encourages electronic submission of protests and interventions in lieu of paper using the “eFiling” link at http://www.ferc.gov. Persons unable to file electronically should submit an original and 14 copies of the protest or intervention to the Federal Energy Regulatory Commission, 888 First Street, NE., Washington, DC 20426.

This filing is accessible on-line at http://www.ferc.gov, using the “eLibrary” link and is available for review in the Commission's Public Reference Room in Washington, DC. There is an “eSubscription” link on the web site that enables subscribers to receive e-mail notification when a document is added to a subscribed docket(s). For assistance with any FERC Online service, please e-mail FERCOnlineSupport@ferc.gov, or call (866) 208-3676 (toll free). For TTY, call (202) 502-8659.

Linda Mitry,
Deputy Secretary.

[FR Doc. E5-2372 Filed 5-12-05; 8:45 am]

BILLING CODE 6717-01-P